DEPARTMENT OF THE INTERIOR

Bureau of Indian Affairs

[189A2100DD/AAKC001030/A0A51010.999900]

Proclaiming Certain Lands as Reservation for the Confederated Tribes of the Chehalis Reservation, Washington

AGENCY: Bureau of Indian Affairs, Interior.

ACTION: Notice.

SUMMARY: This notice informs the public that the Principal Deputy Assistant Secretary—Indian Affairs proclaimed approximately 212.15 acres, more or less, an addition to the reservation of the Confederated Tribes of the Chehalis Reservation, on April 17, 2019.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. These lands were proclaimed to be part of the Confederated Tribes of the Chehalis Reservation in Grays Harbor County and Thurston County, Washington.

Confederated Tribes of the Chehalis Reservation, 5 Parcels in Grays Harbor and Thurston Counties, Washington, Legal Descriptions Containing 212.15 Acres, More or Less

Selles Parcel 157-T-1229

That portion of the Southwest Quarter of the Northeast Quarter, lying Westerly of Railroad right of way and Southerly of Gibson Creek;

ALSO, Government Lot 3;

EXCEPT Railroad right of way;

AND EXCEPT State Road No. 9;

ALSO, ALL that portion of the Northeast Quarter of the Southeast Quarter, lying Westerly of the Northern Pacific Railway right of way;

ALSO Government Lot 4;

EXCEPT THE South 445.5 feet thereof; AND that portion of the Southeast Quarter of the Southeast Quarter, lying Westerly of the Northern Pacific Railway right of way; EXCEPT Elma-Gate County Road;

ALL in Section 3, Township 16 North, Range 5 West of the Willamette Meridian;

Situate in Grays Harbor County, State of Washington.

Containing 84.82 acres, more or less.

Star/Jack 157-T-1234

Parcel No. 55702400200: Parcel B of Boundary Line Adjustment No. BLA-15-109432 TC, as recorded September 21, 2015 under Auditor's File No. 4466252. (1.06 acres)

Parcel No. 55702400300: Tract 3 of Short Subdivision SS-0481, filed for record March 5, 1977, under the Thurston County Auditor's File No. 990946 and recorded in Volume 4 of Short Plats, page 602. (0.76 acres)

All in Section 11 and 12, Township 15 North, Range 3 West, Willamette Meridian, Thurston County, Washington.

Containing 1.82 acres more or less.

Brown 157-T-1236

Parcel Numbers 160503210000 and 160503130010

Parcel A: All that portion of Government Lot 1 and of the Northwest Quarter of the Northeast Quarter of Section 3, Township 16 North, Range 5 West of the Willamette Meridian, lying Westerly of the right of way of the Northern Pacific Railway Company; ALSO: That portion of Government Lot 2 and that portion of the Southwest Quarter of the Northeast Quarter, lying Westerly of the Westerly margin of said right of way of the Northern Pacific Railway Company, which lies Northerly of the following described line: Beginning at the East Quarter corner of Section 3, Township 16 North, Range 5 West of the Willamette Meridian; Thence West 1812.1 feet; Thence North 440 feet; Thence North 81°45′ East 569 feet; Thence North 1°42′ East 508.2 feet to the true point of beginning of the line herein described; Thence West 2045 feet, more or less, to the Westerly line of said Government Lot 2, and the terminus of the said line; Situated in the County of Grays Harbor, State of Washington.

Parcel B: ALL that portion of the Southwest Quarter of the Northeast Quarter and of Government Lot 2 in Section 3, Township 16 North, Range 5 West of the Willamette Meridian lying Westerly of the right-of-way of the Northern Pacific Railway Company (now Burlington Northern, Inc.); EXCEPT that portion thereof lying Southerly of Gibson Creek; ALSO EXCEPT that portion lying North of the following described line: Beginning at the East Quarter corner of said Section 3; Thence West 1812.1 feet to the true point of beginning; Thence North 440 feet; Thence North 81°45′ East 569 feet to the West line of the Southeast Quarter of the Northeast Quarter of said Section 3; Thence North 1°42′ East, along said West line, 508.2 feet to the true point of beginning of said line; Thence West 2045 feet, more or less, to the terminus of said line;

Situate in the County of Grays Harbor, State of Washington.

Containing 88.46 acres, more or less.

Eagle 3 157-T-1237

Parcel A: Parcel A of Boundary Line Adjustment No. BLA-1457, as recorded December 3, 1993 under Auditor's File No. 9312030011.

EXCEPTING THEREFROM that portion conveyed to Thurston County by Deeds recorded February 10, 1998 under Auditor's File Nos. 3134732, 3134733 and 3134734.

ALSO EXCEPT those portions acquired by the State of Washington pursuant to Thurston County Superior Court Cause No. 10-2-00616-5. In Thurston County, Washington.

Parcel B: Tract B of Boundary Line Adjustment No. BLA-1457, as recorded December 3, 1993 Under Auditor's File No. 9312030011. In Thurston County, Washington.

Containing 5.70 acres, more or less.

Restover 157-T-1238

(Parcel A 12721210000) Parcel A of Boundary Line Adjustment No. BLA-000846TC, as recorded February 20, 2001 under Auditor's File No. 3336731 and 3336732; EXCEPTING THEREFROM that portion conveyed to Thurston County by deed recorded May 18, 2011 under Auditor's File No. 4211315; ALSO

(Parcel B 1272120200) Parcel B of Boundary Line Adjustment No. BLA-000846TC, as recorded February 20, 2001 under Auditor's File No. 3336731 and 3336732.

(Parcel C 12716340200) That part of the Southeast quarter of the Southwest quarter of Section 16, Township 17 North, Range 2 West, W.M., described as follows:

Beginning at a point on the South line of said Section 16, 1,970.8 feet East of its Southwest corner; running thence East along said South line 328.2 feet; thence North 1,320 feet, more or less, to the North line of said Southeast quarter of Southwest quarter; thence Westerly along said North line 328.5 feet, more or less; thence South 1,320 feet, more or less, to the point of beginning; EXCEPTING THEREFROM the South 30 feet for county road known as Lathrop Road; ALSO EXCEPTING that portion conveyed to Thurston County by deed recorded May 18, 2011 under Auditor's File No. 4211314.

Consisting of 31.35 acres, more or less.

In Thurston County, Washington.

The above-described lands contain a total of 212.15 acres, more or less, which are subject to all valid rights, reservations, rights-of-way, and easements of record.

This proclamation does not affect title to the lands described above, nor does it affect any valid existing easements for public roads, highways, public utilities, railroads, and pipelines, or any other valid easements or rights-of-way or reservations of record.

Dated: April 17, 2019.
Tara Sweeney,
Assistant Secretary—Indian Affairs.

[FR Doc. 2019-09329 Filed 5-6-19; 8:45 am]

BILLING CODE 4337-15-P